DEPARTMENT OF ENERGY

Federal Energy Regulatory Commission

[EL05-132-000]

Exelon Generation Company, LLC, AmerGen Energy Company, LLC, Commonwealth Edison Company, Unicom Power Marketing, Inc., PECO, Energy Company, Exelon Energy Company, Exelon Edgar, LLC, Exelon West Medway, LLC, Exelon Wyman, LLC, Exelon New Boston, LLC, Exelon Framingham, LLC, and Exelon New England Power Marketing, L.P.; Notice of Institution of Proceeding and Refund Effective Date

July 7, 2005.

On July 5, 2005, the Commission issued an order that instituted a proceeding in Docket No. EL05-132-000, pursuant to section 206 of the Federal Power Act (FPA), 16 U.S.C. 824e, concerning the continued justness and reasonableness of the market-based rates charged by Exelon Corporation (Exelon Generation Company, LLC) and its affiliates, AmerGen Energy Company, LLC, Commonwealth Edison Company, Unicom Power Marketing, Inc., Exelon Edgar, LLC, Exelon Framingham, LLC, Exelon West Medway, LLC, Exelon Wyman, LLC, and Exelon New Boston, LLC, Exelon New England Power Marketing, L.P., PECO Energy Company, and Exelon Energy Company's. Exelon Corporation, et al, 112 FERC ¶61,027 (2005).

The refund effective date in Docket No. EL05-132-000, established pursuant to section 206(b) of the FPA, will be 60 days from the date of publication of this notice in the Federal Register.

Magalie R. Salas,
Secretary.

[FR Doc. 05-15386 Filed 8-2-05; 8:45 am]

BILLING CODE 6717-01-P